DEPARTMENT OF STATE

[Public Notice 7033]

Assistance to the Autonomous Government of Southern Sudan and the United States Contribution to the Global Fund To Fight AIDS, Tuberculosis and Malaria (Global Fund) for Fiscal Year 2008

AGENCY: Department of State.

ACTION: Notice of a Waiver Determination under Section 202(d)(4)(A)(ii) of the United States Leadership against HIV/AIDS, Tuberculosis, and Malaria Act of 2003, as amended, for Fiscal Year 2008.

SUMMARY: This is a notice of a waiver determination under Section 202(d)(4)(A)(ii) of the United States Leadership Against HIV/AIDS, Tuberculosis, and Malaria Act of 2003, as amended by the Tom Lantos and Henry J. Hyde United States Global Leadership Against HIV/AIDS, Tuberculosis, and Malaria Reauthorization Act of 2008 (the Leadership Act). The Leadership Act requires that the U.S. Global AIDS Coordinator withhold from the U.S. contribution to the Global Fund an amount equal to expenditures by the Global Fund in the previous fiscal year to governments of countries that have been determined to have repeatedly provided support for acts of international terrorism in accordance with section 6(j)(1) of the Export Administration Act of 1979 (50 U.S.C. App. 2405 (j)(1)) (the “6(j) list”).

The government of the Republic of Sudan is designated on the “6(j) list.” Thus, Global Fund expenditures to the Government of the Republic of Sudan trigger a withholding requirement from the U.S. contribution to the Global Fund, subject to the waiver authority provided for Global Fund expenditures in Southern Sudan. During FY 2007, $260,139 was provided to government entities in Southern Sudan under malaria and HIV/AIDS grants, thus triggering a potential withholding requirement in this amount from the FY 2008 U.S. contribution to the Global Fund. These funds were used to support malaria treatment, create State HIV/AIDS Commissions in all ten southern Sudan states, provide needed financial support for project specialists, and meet other incurred expenses under HIV/AIDS and malaria grants.

Under the Leadership Act, the President has authority to waive the withholding requirement for assistance overseen by the Southern Sudan Country Coordinating Mechanism (SSCCM) if such an action is justified by the national interest or for humanitarian reasons. This authority has been delegated to the U.S. Global AIDS Coordinator. The United States places a high priority on ensuring appropriate disbursement and expenditure of foreign development and humanitarian funding. Following consultations with the relevant Congressional committees, the U.S. Global AIDS Coordinator has determined waiver of the withholding requirement for assistance by the Global Fund to the Autonomous Government of Southern Sudan through the Global Fund SSCCM is justified for humanitarian reasons. The application of the withholding requirement of Section 202(d)(4)(A)(ii) of the Act is hereby waived with respect to such assistance, allowing for the additional contribution of $260,139 to the Global Fund from the FY 2008 appropriations for the U. S. contribution to the Global Fund. This notice of waiver determination is published in the Federal Register in compliance with Section 202(d)(4)(A)(ii) of the Leadership Act.

DATES: Date Effective: May 26, 2010.

FOR FURTHER INFORMATION CONTACT: Margaret Lidstone, Director, Multilateral Diplomacy, Office of the Global AIDS Coordinator (202) 663-2586.

Dated: May 14, 2010.
Eric P. Goosby,
Ambassador, Office of the U.S. Global AIDS Coordinator, Department of State.

[FR Doc. 2010-13060 Filed 5-28-10; 8:45 am]

BILLING CODE 4701-10-P